DEPARTMENT OF TRANSPORTATION

Federal Aviation Administration

14 CFR Part 39

[Docket No. 2001-NM-265-AD; Amendment 39-12438; AD 2001-18-12]

RIN 2120-AA64

Airworthiness Directives; Boeing Model 767-200, -300, -300F and -400ER Series Airplanes

AGENCY: Federal Aviation Administration, DOT.

ACTION: Final rule; request for comments.

SUMMARY: This amendment adopts a new airworthiness directive (AD) that is applicable to certain Boeing Model 767-200, -300, -300F and -400ER series airplanes. This action requires repetitive inspections to find discrepancies of the wire bundles located between the P50 panel and the nose wheel well structure, and corrective actions, if necessary. This action is necessary to find and fix such discrepancies, which could result in electrical arcing, smoke, or fire in the cabin, and failure of certain systems essential to safe flight and landing of the airplane. This action is intended to address the identified unsafe condition.

DATES: Effective September 28, 2001.

The incorporation by reference of certain publications listed in the regulations is approved by the Director of the Federal Register as of September 28, 2001.

Comments for inclusion in the Rules Docket must be received on or before November 13, 2001.

ADDRESSES: Submit comments in triplicate to the Federal Aviation Administration (FAA), Transport Airplane Directorate, ANM-114, Attention: Rules Docket No. 2001-NM-265-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-265-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Tony Castillos, Aerospace Engineer, Systems and Equipment Branch, ANM-130S, FAA, Seattle Aircraft Certification Office, 1601 Lind Avenue, SW., Renton, Washington 98055-4056; telephone (425) 227-2864; fax (425) 227-1181.

SUPPLEMENTARY INFORMATION: The FAA has received a report indicating that, during the approach to landing of a Boeing Model 767-200 series airplane, the flight crew received several Engine Indication and Crew Alerting System warning messages, and circuit breakers popped, resulting in a burnt smell and smoke in the cabin area. Investigation revealed that the W451 wire bundle located in the Electronic Equipment Center, just forward of the P51 panel, had caught fire and burned at station 266, right buttock line 35. The fire was due to a #2-gage power output wire of the transformer rectifier unit that had chafed against the right aft corner of the nose landing gear box, which caused a short in the wire. The fire resulted in damage to multiple wire bundles, and significant damage to more than 200 wires. Subsequent inspections done on certain Boeing Model 767-300, -300F and -400ER series airplanes revealed a potential chafing condition of similar wiring against the nose wheel well structure was likely to develop. Such chafing was found on one airplane in that group of inspected airplanes. These conditions, if not corrected, could result in electrical arcing, smoke, or fire in the cabin, and failure of certain systems essential to safe flight and landing of the airplane.

Explanation of Relevant Service Information

The FAA has reviewed and approved Boeing Alert Service Bulletins 767-24A0140 (for 767-400ER series airplanes), and 767-24A0139 (for Model 767-200, -300, and -300F series airplanes), both dated February 9, 2001. The service bulletins describe procedures for repetitive inspections for discrepancies of the wire bundles located between the P50 panel and the nose wheel well structure (i.e., chafed or broken wires, damaged insulation or conductors, inadequate clearance between the wire bundle, insulation, and nose wheel well structure), and corrective actions, if necessary. The corrective actions include, but are not limited to, the following:

• Repair or replacement of any damaged wires or worn components

• Installation of protective sleeving over the wire bundles

• Relocation of the wire bundle to provide adequate clearance if less than 0.25 inch exists between the wire bundle, insulation, and nose wheel well structure

• A system test for any wire that is replaced or spliced to repair damage

Explanation of the Requirements of the Rule

Since an unsafe condition has been identified that is likely to exist or develop on other Model 767-200, -300, -300F and -400ER series airplanes of the same type design, this AD is being issued to find and fix discrepancies (i.e., chafed or broken wires, damaged insulation or conductors, inadequate clearance between the wire bundle, insulation, and nose wheel well structure) of the wire bundles located between the P50 panel and the nose wheel structure, which could result in electrical arcing, smoke, or fire in the cabin, and failure of certain systems essential to safe flight and landing of the airplane. The actions are required to be accomplished in accordance with the service bulletins described previously, except as discussed below.

Differences Between This AD and the Service Bulletins

While the service bulletins do not specify the type of inspection of the wire bundles to find discrepancies (i.e., chafed or broken wires; damaged insulation or conductors; inadequate clearance between the wire bundle, insulation, and nose wheel well structure), this AD would require a detailed visual inspection to find such discrepancies. A note has been included in this AD to define that inspection.

Additionally, although the service bulletins specify that the initial inspection is to be completed “at the earliest opportunity when manpower and facilities are available,” the FAA finds that such a compliance time will not ensure that the inspection is accomplished in a timely manner. In developing an appropriate compliance time for the inspection, the FAA considered not only the degree of urgency associated with addressing the subject unsafe condition, but the amount of time necessary to accomplish the inspection, and the practical aspect of accomplishing the inspection within an interval of time that parallels normal scheduled maintenance for the affected operators. In consideration of these factors, the FAA has determined that 90 days after the effective date of this AD represents an appropriate interval of time allowable wherein an acceptable level of safety can be maintained.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-265-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-18-12 Boeing: Amendment 39-12438. Docket 2001-NM-265-AD.

Applicability: Model 767-200, -300, and -300F series airplanes, as listed in Boeing Alert Service Bulletin 767-24A0139, and Model 767-400ER series airplanes as listed in Boeing Alert Service Bulletin 767-24A0140, both dated February 9, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Required as indicated, unless accomplished previously.

To find and fix discrepancies of the wire bundles located between the P50 panel and the nose wheel well structure, which could result in electrical arcing, smoke, or fire in the cabin, and failure of certain systems essential to safe flight and landing of the airplane; accomplish the following:

Repetitive Inspections/Corrective Actions

(a) Within 90 days after the effective date of this AD: Do a detailed visual inspection of the wire bundles between the P50 panel and the nose wheel structure to find discrepancies (i.e., chafed or broken wires, damaged insulation or conductors, inadequate clearance between the wire bundle, insulation, and nose wheel well structure), according to Boeing Alert Service Bulletin 767-24A0139 (for Model 767-200, -300, and -300F series airplanes), or 767-24A0140 (for Model 767-400ER series airplanes), both dated February 9, 2001; as applicable. Repeat the inspection every 6,000 flight hours or 18 months, whichever comes first.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) If any discrepancy is found after doing the inspection required by paragraph (a) of this AD: Before further flight, do the applicable corrective actions (i.e., repair or replace any damaged wires or worn components, install protective sleeving over the wire bundles, relocate the wire bundle to provide adequate clearance), according to Figure 1 of the Accomplishment Instructions of Boeing Alert Service Bulletin 767-24A0139 (for Model 767-200, -300, and -300F series airplanes), or 767-24A0140 (for Model 767-400ER series airplanes), both dated February 9, 2001; as applicable. Then repeat the inspection required by paragraph (a) of this AD at the time specified.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 767-24A0140, dated February 9, 2001; or Boeing Alert Service Bulletin 767-24A0139, dated February 9, 2001; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on September 28, 2001.

Issued in Renton, Washington, on September 4, 2001.
Ali Bahrami,
Acting Manager, Transport Airplane Directorate, Aircraft Certification Service.

[FR Doc. 01-22671 Filed 9-12-01; 8:45 am]

BILLING CODE 4910-13-U